DEPARTMENT OF THE INTERIOR

Fish and Wildlife Service

Availability of a Draft Recovery Plan for the Robust Spineflower (Chorizanthe robusta var. robusta) From Santa Cruz County, California

AGENCY: Fish and Wildlife Service, Interior.

ACTION: Notice of document availability.

SUMMARY: We, the U.S. Fish and Wildlife Service, announce the availability for public review of a draft recovery plan for the robust spineflower (Chorizanthe robusta var. robusta) from Santa Cruz County, California. This federally endangered plant taxon is known from four coastal and near-coastal sites in Santa Cruz County, California. We solicit review and comment from local, State, and Federal agencies, and the public on this draft recovery plan.

DATES: Comments on the draft recovery plan must be received on or before November 20, 2000, to receive our consideration.

ADDRESSES: Copies of the draft recovery plan are available for inspection, by appointment, during normal business hours at the following location: U.S. Fish and Wildlife Service, 2493 Portola Road, Suite B, Ventura, California 93003 (phone: 805/644-1766). The draft recovery plan will also be available at the Santa Cruz Public Library. Requests for copies of the draft recovery plan and written comments and materials regarding this plan should be addressed to Ms. Diane K. Noda, Field Supervisor, at the above Ventura address.

FOR FURTHER INFORMATION CONTACT: Connie Rutherford, Botanist, (805) 644-1766, at the above Ventura address.

SUPPLEMENTARY INFORMATION:

Background

Restoring endangered or threatened animals and plants to the point where they are again secure and self-sustaining members of their ecosystems is a primary goal of our endangered species program. To help guide the recovery effort, we are working to prepare recovery plans for most of the federally listed species native to the United States. Recovery plans describe actions considered necessary for the conservation of the species, establish criteria for recovery levels to downlist or delist them, and estimate time and cost for implementing the recovery measures needed.

The Endangered Species Act of 1973, as amended (16 U.S.C. 1531 et seq.) (Act), requires the development of recovery plans for federally listed species unless such a plan would not promote the conservation of a particular species. Section 4(f) of the Act requires that public notice and an opportunity for public review and comment be provided during recovery plan development. We will consider all information presented during the public comment period prior to approval of each new or revised recovery plan. Substantive technical comments will result in changes to the plans. Substantive comments regarding recovery plan implementation may not necessarily result in changes to the recovery plans, but will be forwarded to appropriate Federal or other entities so that they can take these comments into account during the course of implementing recovery actions. Individualized responses to comments will not be provided.

The robust spineflower is federally listed as endangered. The robust spineflower is restricted to sandy soils along the coast and near-coastal areas in Santa Cruz County, California from Santa Cruz south to Sunset State Beach. It is currently known from four sites. The first site, Pogonip Park, supports two small colonies; the Park is owned and managed by the City of Santa Cruz. The second site is Sunset Beach State Park; a large population is scattered along approximately 1 kilometer (0.5 mile) of backdune habitat. The third site is on a 115-hectare (285-acre) private parcel known as Buena Vista that has been considered for golf course development; small colonies are scattered over 4 hectares (10 acres). The fourth site, located near Rob Roy Junction, is on a 8-hectare (20-acre) private parcel that was recently proposed for a lot split; the population here is scattered over 1.2 hectares (3 acres).

The objective of this draft recovery plan is to provide a framework for delisting the robust spineflower so that protection by the Act is no longer necessary. Actions necessary to accomplish this objective include: Protect robust spineflower habitat through land acquisition, conservation easements, and Habitat Conservation Plans; managing robust spineflower habitat; conduct management-oriented research on the taxon's ecology and biology; review and revise management and recovery plan guidelines; locate additional populations; and establish new populations of the taxon within the historic range of this variety of Chorizanthe robusta.

Authority: The authority for this action is section 4(f) of the Endangered Species Act, 16 U.S.C. 1533(f).

Dated: September 13, 2000.
Elizabeth H. Stevens,
Acting Manager, California/Nevada Operations Office, Region 1, U.S. Fish and Wildlife Service.

[FR Doc. 00-23996 Filed 9-18-00; 8:45 am]

BILLING CODE 4310-55-M